DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, August 8, 2001, 8:00 a.m. to August 10, 2001, 6:00 p.m., DoubleTree Hotel, 1750 Rockville Pike, Rockville, MD 20852 which was published in the Federal Register on July 16, 2001, 66 FR 37043-37044.

The meeting will be held 08/07-10/2001 beginning at 6:30 p.m. instead of 08/08/2001 at 8 a.m. The location is the same. The meeting is closed to the public.

Dated: July 24, 2001.
LaVerne Y. Stringfield,
Director, Office of Federal Advisory Committee Policy.

[FR Doc. 01-19076 Filed 7-31-01; 8:45 am]

BILLING CODE 4140-01-M